DEPARTMENT OF HEALTH AND HUMAN SERVICES

Centers for Disease Control and Prevention

Office for State, Tribal, Local and Territorial Support (OSTLTS), Tribal Advisory Committee (TAC) Meeting and 18th Biannual Tribal Consultation Session); Cancellation of Meeting

Notice is hereby given of a change in the meeting of the Office for State, Tribal, Local and Territorial Support (OSTLTS), Tribal Advisory Committee (TAC) Meeting and 18th Biannual Tribal Consultation Session); March 13, 2018, 8:00 a.m.-5:00 p.m., EDT. CDC, Global Communications Center Auditorium B3, 1600 Clifton Road NE, Atlanta, Georgia 30329, which was published in the Federal Register on December 28, 2017, Volume 82, Number 248, 61573.

This meeting is being canceled in its entirety.

FOR FURTHER INFORMATION CONTACT: Carmen Clelland, PharmD, MPA, MPH, Associate Director for Tribal Support, OSTLTS, CDC, 4770 Buford Highway, Mailstop E-70, Atlanta, Georgia 30341-3717, (404) 404-498-2205; cclelland@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2018-04133 Filed 2-28-18; 8:45 am]

BILLING CODE 4163-18-P